FEDERAL COMMUNICATIONS COMMISSION

Information Collections Being Submitted for Review and Approval to the Office of Management and Budget

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the PRA that does not display a valid OMB control number.

DATES: Written comments should be submitted on or before October 6, 2014. If you anticipate that you will be submitting comments, but find it difficult to do so within the period of time allowed by this notice, you should advise the contacts below as soon as possible.

ADDRESSES: Direct all PRA comments to Nicholas A. Fraser, OMB, via email Nicholas_A._Fraser@omb.eop.gov; and to Cathy Williams, FCC, via email PRA@fcc.gov and to Cathy.Williams@fcc.gov. Include in the comments the OMB control number as shown in the SUPPLEMENTARY INFORMATION section below.

FOR FURTHER INFORMATION CONTACT: For additional information or copies of the information collection, contact Cathy Williams at (202) 418-2918. To view a copy of this information collection request (ICR) submitted to OMB: (1) Go to the Web page <http://www.reginfo.gov/public/do/PRAMain>, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: OMB Control Number: 3060-0484.

Title: Section 4.9, Part 4 of the Commission's Rules Concerning Disruptions to Communications.

Form Number: N/A.

Type of Review: Revision of a currently approved collection.

Respondents: Business or other for-profit entities, not-for profit institutions.

Number of Respondents: Approximately 1,100 respondents; 15,444 responses per year.

Estimated Time per Response: No more than 2.5 hours per occurrence.

Frequency of Response: On occasion and annual reporting requirements, recordkeeping requirement and third party disclosure requirement.

Obligation to Respond: Mandatory. Statutory authority for this collection of information is contained in 47 U.S.C. 151, 154(i)-(j) & (o), 201(b), 214(d), 218, 251(e)(3), 301, 303(b), 303(g), 303(r), 307, 309(a), 316, 332, 403, 615a-1, and 615c.

Total Annual Burden: 29,870 hours.

Total Annual Cost: $0.

Privacy Impact Assessment: No impacts.

Nature and Extent of Confidentiality: Network Outage Reporting System (NORS) outage reports filed with the Commission pursuant to Part 4 of its rules are presumed confidential. The information in those filings may be shared with the Department of Homeland Security only under appropriate confidential disclosure provisions. Other persons seeking disclosure must follow the procedures delineated in 47 CFR 0.457 and 0.459 of the Commission's rules for requests for and disclosure of information. The revisions to this information collection require information to be transmitted to third parties, not to the FCC. Accordingly, the Commission cannot, and does not, guarantee confidentiality of information provided directly to public safety answering points (PSAPs). The revisions do not affect the confidential treatment of information provided directly to the FCC through NORS.

Needs and Uses: The Commission is seeking OMB approval for a revision of this information collection in order to obtain the full three year approval from OMB. The Commission is reporting a 223-hour increase in its previous annual burden estimates. The increase is due to adoption of FCC 13-158, a Report and Order establishing more specific outage notification obligations for Covered 911 Service Providers, which are the respondents subject to the revised requirements of this information collection.

Previous FCC rules required certain communications providers to notify PSAPs of 911 outages “as soon as possible” with “all available information that may be useful.” The revisions to this information collection respond to the derecho storm that struck the Midwest and Mid-Atlantic United States in June 2012, causing significant disruptions in 911 service. Through its inquiry into these 911 outages, the Commission learned that many PSAPs' efforts to restore service were complicated by inadequate information and ineffective communication by 911 service providers. Consequently, the Commission amended section 4.9 of its rules to require more specific 911 outage notifications to PSAPs within specified time periods.

Under the new rule, Covered 911 Service Providers must notify PSAPs of outages that potentially affect 911 service within 30 minutes of discovering the outage and provide contact information such as a name, telephone number, and email for follow-up. Whenever additional material information becomes available, but no later than two hours after the initial contact, the Covered 911 Service Provider must communicate additional detail to the PSAP, including the nature of the outage, its best-known cause, the geographic scope of the outage, and the estimated time for repairs. Notifications must be transmitted by telephone and in writing via electronic means, unless the PSAP and service provider have agreed in advance to an alternative method. The new requirements apply only to entities defined as Covered 911 Service Providers under 47 CFR 12.4(a)(4), and outage reporting obligations for other entities remain unchanged.

The above revisions do not require information to be submitted to the FCC, but rather to third parties (i.e., PSAPs and other “911 special facilities”) that experience 911 outages. While the amended rule will not result in new or different information submitted to the Commission, it will require Covered 911 Service Providers to transmit more specific information to PSAPs to improve their situational awareness and ability to respond to 911 outages. Such notifications are necessary because PSAP personnel depend on reliable 911 service to answer emergency calls and dispatch help when needed. When 911 service is compromised, PSAPs require prompt notification and useful information about the outage so that they may make alternate plans to reroute calls until service is restored. Many Covered 911 Service Providers indicate that they already collect the required outage information for internal use, and for submission to the FCC through required NORS reports. Therefore, the obligation to provide more specific outage notifications to PSAPs will not generally require collection of new or different information, only a more consistent effort to ensure that transmission of such information is timely and complete. These revisions do not affect the obligation to submit NORS outage reports to the FCC or the information that must be provided in NORS reports; these portions of the information collection have already been approved by OMB and have not changed since that approval.

OMB Control Number: 3060-0185.

Title: Section 73.3613, Filing of Contracts.

Form Number: N/A.

Type of Review: Revision of a currently collection.

Respondents: Business or other for profit entities; not-for-profit institutions.

Number of Respondents and Responses: 2,400 respondents and 2,400 responses.

Estimated Time per Response: 0.25 to 0.5 hours.

Frequency of Response: On occasion reporting requirement; Recordkeeping requirement; Third party disclosure requirement.

Total Annual Burden: 975 hours.

Total Annual Costs: $135,000.

Privacy Act Impact Assessment: No impact(s).

Obligation to Respond: Required to obtain or retain benefits. The statutory authority for this information collections is contained in Section 154(i) and 303 of the Communications Act of 1934, as amended.

Nature and Extent of Confidentiality: There is no need for confidentiality with this information collection.

Needs and Uses: On April 15, 2014, the Commission released a Report and Order (79 FR 29009, May 20, 2014, FCC 14-28, rel. April 15, 2014) that adopted changes to 47 CFR 73.3613 and the FCC's attribution rules. Specifically, certain television joint sales agreements (“JSAs”) are now attributable under the Commission's attribution rules. As a result, television stations will now be required to file JSAs that result in attribution under the Commission's multiple ownership rules.

The revised Section 73.3613(d)(2) is as follows:

(2) Joint sales agreements: Joint sales agreements involving radio stations where the licensee (including all parties under common control) is the brokering entity, the brokering and brokered stations are both in the same market as defined in the local radio multiple ownership rule contained in 73.3555(a), and more than 15 percent of the advertising time of the brokered station on a weekly basis is brokered by that licensee; joint sales agreements involving television stations where the licensee (including all parties under common control) is the brokering entity, the brokering and brokered stations are both in the same market as defined in the local television multiple ownership rule contained in 73.3555(b), and more than 15 percent of the advertising time of the brokered station on a weekly basis is brokered by that license. Confidential or proprietary information may be redacted where appropriate but such information shall be made available for inspection upon request by the FCC.

The following information collection requirements will remain a part of this collection and they have not changed since last approved by the Office of Management and Budget (OMB):

47 CFR 73.3613 currently requires each licensee or permittee of a commercial or noncommercial AM, FM, TV or International broadcast station shall file with the FCC copies of the following contracts, instruments, and documents together with amendments, supplements, and cancellations (with the substance of oral contracts reported in writing), within 30 days of execution thereof:

(a) Network service: Network affiliation contracts between stations and networks will be reduced to writing and filed as follows:

(1) All network affiliation contracts, agreements, or understandings between a TV broadcast or low power TV station and a national network. For the purposes of this paragraph the term network means any person, entity, or corporation which offers an interconnected program service on a regular basis for 15 or more hours per week to at least 25 affiliated television licensees in 10 or more states; and/or any person, entity, or corporation controlling, controlled by, or under common control with such person, entity, or corporation.

(2) Each such filing on or after May 1, 1969, initially shall consist of a written instrument containing all of the terms and conditions of such contract, agreement or understanding without reference to any other paper or document by incorporation or otherwise. Subsequent filings may simply set forth renewal, amendment or change, as the case may be, of a particular contract previously filed in accordance herewith.

(3) The FCC shall also be notified of the cancellation or termination of network affiliations, contracts for which are required to be filed by this section.

(b) Ownership or control: Contracts, instruments or documents relating to the present or future ownership or control of the licensee or permittee or of the licensee's or permittee's stock, rights or interests therein, or relating to changes in such ownership or control shall include but are not limited to the following:

(1) Articles of partnership, association, and incorporation, and changes in such instruments;

(2) Bylaws, and any instruments effecting changes in such bylaws;

(3) Any agreement, document or instrument providing for the assignment of a license or permit, or affecting, directly or indirectly, the ownership or voting rights of the licensee's or permittee's stock (common or preferred, voting or nonvoting), such as:

(i) Agreements for transfer of stock;

(ii) Instruments for the issuance of new stock; or

(iii) Agreements for the acquisition of licensee's or permittee's stock by the issuing licensee or permittee corporation. Pledges, trust agreements, options to purchase stock and other executory agreements are required to be filed. However, trust agreements or abstracts thereof are not required to be filed, unless requested specifically by the FCC. Should the FCC request an abstract of the trust agreement in lieu of the trust agreement, the licensee or permittee will submit the following information concerning the trust:

(A) Name of trust;

(B) Duration of trust;

(C) Number of shares of stock owned;

(D) Name of beneficial owner of stock;

(E) Name of record owner of stock;

(F) Name of the party or parties who have the power to vote or control the vote of the shares; and

(G) Any conditions on the powers of voting the stock or any unusual characteristics of the trust.

(4) Proxies with respect to the licensee's or permittee's stock running for a period in excess of 1 year, and all proxies, whether or not running for a period of 1 year, given without full and detailed instructions binding the nominee to act in a specified manner. With respect to proxies given without full and detailed instructions, a statement showing the number of such proxies, by whom given and received, and the percentage of outstanding stock represented by each proxy shall be submitted by the licensee or permittee within 30 days after the stockholders' meeting in which the stock covered by such proxies has been voted. However, when the licensee or permittee is a corporation having more than 50 stockholders, such complete information need be filed only with respect to proxies given by stockholders who are officers or directors, or who have 1% or more of the corporation's voting stock. When the licensee or permittee is a corporation having more than 50 stockholders and the stockholders giving the proxies are not officers or directors or do not hold 1% or more of the corporation's stock, the only information required to be filed is the name of any person voting 1% or more of the stock by proxy, the number of shares voted by proxy by such person, and the total number of shares voted at the particular stockholders' meeting in which the shares were voted by proxy.

(5) Mortgage or loan agreements containing provisions restricting the licensee's or permittee's freedom of operation, such as those affecting voting rights, specifying or limiting the amount of dividends payable, the purchase of new equipment, or the maintenance of current assets.

(6) Any agreement reflecting a change in the officers, directors or stockholders of a corporation, other than the licensee or permittee, having an interest, direct or indirect, in the licensee or permittee as specified by § 73.3615.

(7) Agreements providing for the assignment of a license or permit or agreements for the transfer of stock filed in accordance with FCC application Forms 314, 315, 316 need not be resubmitted pursuant to the terms of this rule provision.

(c) Personnel: (1) Management consultant agreements with independent contractors; contracts relating to the utilization in a management capacity of any person other than an officer, director, or regular employee of the licensee or permittee; station management contracts with any persons, whether or not officers, directors, or regular employees, which provide for both a percentage of profits and a sharing in losses; or any similar agreements.

(2) The following contracts, agreements, or understandings need not be filed: Agreements with persons regularly employed as general or station managers or salesmen; contracts with program managers or program personnel; contracts with attorneys, accountants or consulting radio engineers; contracts with performers; contracts with station representatives; contracts with labor unions; or any similar agreements.

(d)(1) Time brokerage agreements (also known as local marketing agreements): Time brokerage agreements involving radio stations where the licensee (including all parties under common ownership) is the brokering entity, the brokering and brokered stations are both in the same market as defined in the local radio multiple ownership rule contained in § 73.3555(a), and more than 15 percent of the time of the brokered station, on a weekly basis is brokered by that licensee; time brokerage agreements involving television stations where the licensee (including all parties under common control) is the brokering entity, the brokering and brokered stations are both licensed to the same market as defined in the local television multiple ownership rule contained in § 73.3555(b), and more than 15 percent of the time of the brokered station, on a weekly basis, is brokered by that licensee; time brokerage agreements involving radio or television stations that would be attributable to the licensee under § 73.3555 Note 2, paragraph (i). Confidential or proprietary information may be redacted where appropriate but such information shall be made available for inspection upon request by the FCC.

(e) The following contracts, agreements or understandings need not be filed but shall be kept at the station and made available for inspection upon request by the FCC; subchannel leasing agreements for Subsidiary Communications Authorization operation; franchise/leasing agreements for operation of telecommunications services on the television vertical blanking interval and in the visual signal; time sales contracts with the same sponsor for 4 or more hours per day, except where the length of the events (such as athletic contests, musical programs and special events) broadcast pursuant to the contract is not under control of the station; and contracts with chief operators.

Federal Communications Commission.
Marlene H. Dortch,
Secretary, Office of the Secretary, Office of the Managing Director.

[FR Doc. 2014-20952 Filed 9-3-14; 8:45 am]

BILLING CODE 6712-01-P